DEPARTMENT OF TRANSPORTATION

Federal Motor Carrier Safety Administration

[Docket No. FMCSA-2016-0024]

Qualification of Drivers; Exemption Applications; Vision

AGENCY: Federal Motor Carrier Safety Administration (FMCSA), DOT.

ACTION: Notice of applications for exemptions; request for comments.

SUMMARY: FMCSA announces receipt of applications from 25 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before May 12, 2016. All comments will be investigated by FMCSA. The exemptions will be issued the day after the comment period closes.

ADDRESSES: You may submit comments bearing the Federal Docket Management System (FDMS) Docket No. FMCSA-2016-0024 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 25 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Stanley W. Ahne

Mr. Ahne, 56, tore the iris in his right eye in childhood due to a traumatic incident. The visual acuity in his right eye is 20/400, and in his left eye, 20/20. Following an examination in 2015, his optometrist stated, “I believe that Mr. Ahne does have sufficient vision to drive a commercial vehical [sic] safely.” Mr. Ahne reported that he has driven straight trucks for 10 years, accumulating 100,000 miles and tractor-trailer combinations for 10 years, accumulating 1 million miles. He holds a Class A CDL from Oklahoma. His driving record for the last 3 years shows no crashes and no convictions for moving violations in a CMV.

Marvin D. Bass

Mr. Bass, 56, has been blind in his right eye since 2008 due to a traumatic incident. The visual acuity in his right eye is hand motion, and in his left eye, 20/20. Following an examination in 2015, his optometrist stated, “In my medical opinion, Mr. Bass has sufficient vision to perform the driving tasks required to operate a commercial vehicle.” Mr. Bass reported that he has driven straight trucks for 20 years, accumulating 700,000 miles. He holds an operator's license from Kentucky. His driving record for the last 3 years shows no crashes and no convictions for moving violations in a CMV.

Daniel L. Castonguay

Mr. Castonguay, 54, has had macular degeneration in his left eye since 2012. The visual acuity in his right eye is 20/20, and in his left eye, 20/100. Following an examination in 2016, his optometrist stated, “It is my opinion that Daniel Castonguay has stable vision at this time and has sufficient vision to drive a commercial vehicle as he has done for the last 22 years.” Mr. Castonguay reported that he has driven straight trucks for 5 years, accumulating 250,000 miles and tractor-trailer combinations for 25 years, accumulating 1.5 million miles. He holds a Class A CDL from Maine. His driving record for the last 3 years shows no crashes and no convictions for moving violations in a CMV.

William A. Crandall, Jr.

Mr. Crandall, 31, has refractive amblyopia in his right eye since childhood. The visual acuity in his right eye is 20/60, and in his left eye, 20/15. Following an examination in 2016, his optometrist stated, “It is my opinion that Mr. Crandal [sic] has sufficient vision to perform the driving tasks required to operate a commercial vehicle.” Mr. Crandall reported that he has driven straight trucks for 5 years, accumulating 100,000 miles. He holds an operator's license from New York. His driving record for the last 3 years shows no crashes and no convictions for moving violations in a CMV.

James T. Curtis

Mr. Curtis, 55, has had ischemic optic neuropathy in his left eye since birth. The visual acuity in his right eye is 20/20, and in his left eye, light perception. Following an examination in 2016, his optometrist stated, “He has sufficient vision to perform the driving tasks required to operate a commercial vehicle.” Mr. Curtis reported that he has driven straight trucks for 17 years, accumulating 70,000 miles and tractor-trailer combinations for 17 years, accumulating 1,000 miles. He holds a Class A CDL from New Mexico. His driving record for the last 3 years shows no crashes and no convictions for moving violations in a CMV.

Jacob M. Dellinger

Mr. Dellinger, 60, had a branch retinal vein occlusion in his left eye in 2011. The visual acuity in his right eye is 20/20, and in his left eye, 20/200. Following an examination in 2015, his optometrist stated, “In my medical opinion, with his right eye correction to 20/20 and his full temporal peripheral fields, he has sufficient vision to perform the driving tasks required to operate a commercial vehicle.” Mr. Dellinger reported that he has driven straight trucks for 41 years, accumulating 410,000 miles and tractor-trailer combinations for 41 years, accumulating 123,000 miles. He holds an operator's license from North Carolina. His driving record for the last 3 years shows no crashes and no convictions for moving violations in a CMV.

Mark E. Dow

Mr. Dow, 51, has had amblyopia in his right eye since birth. The visual acuity in his right eye is 20/70, and in his left eye, 20/20. Following an examination in 2016, his optometrist stated, “In my opinion Mr. Dow has sufficient vision to perform the driving tasks required to operate a commercial vehicle.” Mr. Dow reported that he has driven straight trucks for 30 years, accumulating 1.05 million miles and tractor-trailer combinations for 30 years, accumulating 150,000 miles. He holds a Class A CDL from Vermont. His driving record for the last 3 years shows no crashes and no convictions for moving violations in a CMV.

Richard R. Filion

Mr. Filion, 68, is blind in his left eye due to a traumatic incident in 2011. The visual acuity in his right eye is 20/20, and in his left eye, no light perception. Following an examination in 2015, his optometrist stated, “If there is an allowance or waiver given for monocular status then Mr. Filion would meet requirements for commercial driving.” Mr. Filion reported that he has driven straight trucks for 25 years, accumulating 500,000 miles and tractor-trailer combinations for 8 years, accumulating 560,000 miles. He holds a Class A CDL from Vermont. His driving record for the last 3 years shows no crashes and no convictions for moving violations in a CMV.

Louis J. Floquet Jr.

Mr. Floquet, 31, has had Morning Glory Syndrome in his left eye since birth. The visual acuity in his right eye is 20/20, and in his left eye, light perception. Following an examination in 2015, his optometrist stated, “Based on these tests, Louis has sufficient vison to perform the driving tasks required to operate a commercial vehicle.” Mr. Floquet reported that he has driven straight trucks for 15 years, accumulating 150,000 miles. He holds an operator's license from California. His driving record for the last 3 years shows no crashes and no convictions for moving violations in a CMV.

Joshua V. Harrison

Mr. Harrison, 67, has had a corneal scar in his left eye since childhood. The visual acuity in his right eye is 20/25, and in his left eye, 20/80. Following an examination in 2015, his ophthalmologist stated, “Left eye poor vision is long-standing, right eye meets standards . . . for CDL.” Mr. Harrison reported that he has driven straight trucks for 45 years, accumulating 450,000 miles. He holds a Class A CDL from New Jersey. His driving record for the last 3 years shows no crashes and no convictions for moving violations in a CMV.

Jason G. Joyner

Mr. Joyner, 38, has had strabismic amblyopia in his left eye since childhood. The visual acuity in his right eye is 20/20, and in his left eye, 20/100. Following an examination in 2016, his optometrist stated, “I believe pt [sic] has sufficient vision to perform the driving tasks required to operate a commercial vehicle.” Mr. Joyner reported that he has driven straight trucks for 4 years, accumulating 150,000 miles. He holds a Class A CDL from Kansas. His driving record for the last 3 years shows no crashes and no convictions for moving violations in a CMV.

Thomas M. Kaley, Jr.

Mr. Kaley, 43, is blind in his left eye due to a traumatic incident in childhood. The visual acuity in his right eye is 20/20, and in his left eye, no light perception. Following an examination in 2015, his optometrist stated, “I see no reason that he should be denied a license as I believe that he has sufficient vision to operate a commercial vehicle.” Mr. Kaley reported that he has driven straight trucks for 25 years, accumulating 750,000 miles. He holds an operator's license from Pennsylvania. His driving record for the last 3 years shows no crashes and no convictions for moving violations in a CMV.

William J. Krysinski

Mr. Krysinski, 56, has had optic atrophy in his left eye since 2012. The visual acuity in his right eye is 20/20, and in his left eye, hand motion. Following an examination in 2015, his optometrist stated, “I believe he can continue to safely operate his commercial motor vehicle for interstate driving without any restrictions.” Mr. Krysinski reported that he has driven tractor-trailer combinations for 35 years, accumulating 2.3 million miles. He holds a Class A CDL from Minnesota. His driving record for the last 3 years shows no crashes and no convictions for moving violations in a CMV.

Bradley K. Linde

Mr. Linde, 67, has had amblyopia in his left eye since childhood. The visual acuity in his right eye is 20/20, and in his left eye, 20/400. Following an examination in 2015, his optometrist stated, “In my professional opinion of his vision, Mr. Linde is qualified to perform all duties expected for operating a commercial vehicle.” Mr. Linde reported that he has driven tractor-trailer combinations for 21 years, accumulating 10,500 miles. He holds a Class A CDL from Iowa. His driving record for the last 3 years shows no crashes and no convictions for moving violations in a CMV.

Pedro Martinez

Mr. Martinez, 55, has had a choroidal macular scar in his left eye since 1985. The visual acuity in his right eye is 20/20, and in his left eye, counting fingers. Following an examination in 2015, his optometrist stated, “In my medical opinion, he has sufficient vision centrally OD and Peripherally [sic] OU to operate a commercial vehical [sic].” Mr. Martinez reported that he has driven straight trucks for 10 years, accumulating 5,200 miles. He holds an operator's license from New Mexico. His driving record for the last 3 years shows no crashes and no convictions for moving violations in a CMV.

Ty N. Mason

Mr. Mason, 51, has been blind in his left eye due to a retinal detachment in 2003. The visual acuity in his right eye is 20/20, and in his left eye, no light perception. Following an examination in 2015, his optometrist stated, “Patient has sufficient visual acuity and VF [sic] for CDL license.” Mr. Mason reported that he has driven straight trucks for 2 years, accumulating 75,000 miles and tractor-trailer combinations for 16 years, accumulating 6.53 million miles. He holds a Class AM CDL from Pennsylvania. His driving record for the last 3 years shows no crashes and no convictions for moving violations in a CMV.

Ralph A. Milliman

Mr. Milliman, 63, has had an incomplete macular formation in his left eye since birth. The visual acuity in his right eye is 20/20, and in his left eye, 20/200. Following an examination in 2015, his optometrist stated, “It is my opinion that Mr. Milliman's exceptional vision in his right eye allows him to compensate for his lack of visual acuity in his left eye and leads me to believe he has sufficient vision to perform all commercial driving tasks.” Mr. Milliman reported that he has driven straight trucks for 24 years, accumulating 1.92 million miles and tractor-trailer combinations for 33 years, accumulating 3.47 million miles. He holds an operator's license from Illinois. His driving record for the last 3 years shows no crashes and 1 conviction for a moving violation in a CMV; he operated in an improper traffic lane.

Donald A. Orloski

Mr. Orloski, 69, has had amblyopia in his left eye since birth. The visual acuity in his right eye is 20/20, and in his left eye, 20/150. Following an examination in 2015, his optometrist stated, “Mr. Orloski's visual condition is stable. I find no medical reason to prevent Donald Orloski from safely operating a commercial vehicle.” Mr. Orloski reported that he has driven straight trucks for 37 years, accumulating 592,000 miles and tractor-trailer combinations for 37 years, accumulating 37,000 miles. He holds a Class A CDL from Pennsylvania. His driving record for the last 3 years shows no crashes and no convictions for moving violations in a CMV.

Alan R. Piroso

Mr. Piroso, 60, has had amblyopia in his left eye since birth. The visual acuity in his right eye is 20/20, and in his left eye, 20/400. Following an examination in 2015, his ophthalmologist stated, “Alan Piroso has been driving for many years without a problem and I believe he should be able to renew his CDL license based on his eye examination.” Mr. Piroso reported that he has driven straight trucks for 31 years, accumulating 930,000 miles and tractor-trailer combinations for 6 years, accumulating 30,000 miles. He holds a Class AMC CDL from New Hampshire. His driving record for the last 3 years shows no crashes and no convictions for moving violations in a CMV.

Juan C. Ramirez

Mr. Ramirez, 31, has had exotropia with amblyopia in his left eye since childhood. The visual acuity in his right eye is 20/30, and in his left eye, 20/100. Following an examination in 2015, his optometrist stated, “I believe Mr. Ramirez should be considered for [sic] federal vision exemption to operate a CMV in interstate commerce.” Mr. Ramirez reported that he has driven straight trucks for 6 years, accumulating 600,000 miles and tractor-trailer combinations for 2 years, accumulating 120,000 miles. He holds a Class A CDL from Ohio. His driving record for the last 3 years shows no crashes and no convictions for moving violations in a CMV.

Erik J. Rowland

Mr. Rowland, 35, has had amblyopia in his right eye since birth. The visual acuity in his right eye is hand motion, and in his left eye, 20/15. Following an examination in 2015, his ophthalmologist stated, “It is my opinion that Mr. Rowland is able to operate a commercial vehicle, as his vision has remained stable, and he has operate [sic] a commercial vehicle for the past several years.” Mr. Rowland reported that he has driven straight trucks for 17 years, accumulating 340,000 miles and tractor-trailer combinations for 2 years, accumulating 10,000 miles. He holds a Class A CDL from New York. His driving record for the last 3 years shows no crashes and no convictions for moving violations in a CMV.

Colby T. Smith

Mr. Smith, 36, has had amblyopia in his left eye since childhood. The visual acuity in his right eye is 20/20, and in his left eye, 20/400. Following an examination in 2015, his optometrist stated, “In my opinion, Colby has more than adequate vision to perform all driving tasks required to operate a commercial vehicle.” Mr. Smith reported that he has driven straight trucks for 10 years, accumulating 120,000 miles. He holds a Class D operator's license from Utah. His driving record for the last 3 years shows no crashes and no convictions for moving violations in a CMV.

Carl J. Warnecke

Mr. Warnecke, 55, has had amblyopia in his right eye since childhood. The visual acuity in his right eye is 20/200, and in his left eye, 20/20. Following an examination in 2015, his ophthalmologist stated, “I think that he does have sufficient vision to perform the driving tasks required to operate a commercial vehicle, according to their guidelines.” Mr. Warnecke reported that he has driven straight trucks for 35 years, accumulating 210,000 miles and tractor-trailer combinations for 35 years, accumulating 35,000 miles. He holds a Class A CDL from Ohio. His driving record for the last 3 years shows no crashes and no convictions for moving violations in a CMV.

Edwin E. West

Mr. West, 55, has had a macular scar in his right eye due to a retinal hemorrhage in 2004. The visual acuity in his right eye is 20/70, and in his left eye, 20/20. Following an examination in 2015, his optometrist stated, “I certify that Ed West has sufficient vision to perform the driving tasks required to operate a commercial vehicle.” Mr. West reported that he has driven straight trucks for 37 years, accumulating 185,000 miles and tractor-trailer combinations for 37 years, accumulating 185,000 miles. He holds a Class A CDL from Missouri. His driving record for the last 3 years shows no crashes and no convictions for moving violations in a CMV.

Donald E. Wojtaszek

Mr. Wojtaszek, 62, has had amblyopia in his left eye since childhood. The visual acuity in his right eye is 20/20, and in his left eye, 20/200. Following an examination in 2015, his optometrist stated, “I hereby certify that in my medical opinion, this individual has sufficient vision to perform driving tasks required to operate a commercial vehicle.” Mr. Wojtaszek reported that he has driven straight trucks for 42 years, accumulating 84,000. He holds a Class C license from Pennsylvania. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2016-0024 in the “Keyword” box, and click “Search. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period. FMCSA may issue a final determination at any time after the close of the comment period.

Viewing Comments and Documents

To view comments, as well as documents mentioned in this preamble as being available in the docket, go to http://www.regulations.gov and insert the docket number FMCSA-2016-0024 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: April 5, 2016.
Larry W. Minor,
Associate Administrator for Policy.

[FR Doc. 2016-08354 Filed 4-11-16; 8:45 am]

BILLING CODE 4910-EX-P